DEPARTMENT OF ENERGY

Federal Energy Regulatory Commission

[Docket No. RP03-34-000]

Kern River Gas Transmission Company; Notice of Proposed Changes in FERC Gas Tariff

October 23, 2002.

Take notice that on October 18, 2002, Kern River Gas Transmission Company (Kern River) tendered for filing as part of its FERC Gas Tariff, Second Revised Volume No. 1, the following tariff sheets, to be effective October 1, 2002.

First Revised Ninth Revised Sheet No. 5

Fourth Revised Sheet No. 5-A

Third Revised Sheet No. 140

Fourth Revised Sheet No. 144

Third Revised Sheet No. 145

Third Revised Sheet No. 161

Third Revised Sheet No. 822

Third Revised Sheet No. 823

Third Revised Sheet No. 839

Kern River states that the purpose of this filing is to revise Kern River's tariff to reflect the expiration of the temporary waiver of the rate ceiling on short-term capacity release transactions.

Kern River states that it has served a copy of this filing upon its customers and interested state regulatory commissions.

Any person desiring to be heard or to protest said filing should file a motion to intervene or a protest with the Federal Energy Regulatory Commission, 888 First Street, NE, Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202)502-8222 or for TTY, (202) 502-8659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-27472 Filed 10-28-02; 8:45 am]

BILLING CODE 6717-01-P